INTERNATIONAL TRADE COMMISSION

[Investigation Nos. 731-TA-1675-1678 (Final)]

Dioctyl Terephthalate (DOTP) From Malaysia, Poland, Taiwan, and Turkey Determinations

On the basis of the record ¹ developed in the subject investigations, the United States International Trade Commission (“Commission”) determines, pursuant to the Tariff Act of 1930 (“the Act”), that an industry in the United States is materially injured by reason of imports of dioctyl terephthalate from Malaysia, Poland, Taiwan, and Turkey, provided for in subheadings 2917.39.20, 2917.39.70, or 3812.20.10 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 90 FR 14073, 90 FR 14117, 90 FR 14069, 90 FR 14071, March 28, 2025.

Background

The Commission instituted these investigations effective March 26, 2024, following receipt of a petitions filed with the Commission and Commerce by Eastman Chemical Company, Kingsport, Tennessee. The Commission scheduled the final phase of the investigations following notification of preliminary determinations by Commerce that imports of dioctyl terephthalate from Malaysia, Poland, Taiwan, and Turkey were being sold at LTFV within the meaning of § 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of November 19, 2024 (89 FR 91423). The public hearing in connection with the investigations, originally scheduled for March 25, 2025, was cancelled.³

³ 90 FR 13880, March 27, 2025.

The Commission made these determinations pursuant to § 735(b) of the Act (19 U.S.C. 1673d(b)). It completed and filed its determinations in these investigations on May 12, 2025. The views of the Commission are contained in USITC Publication 5616 (May 2025), entitled Dioctyl Terephthalate from Malaysia, Poland, Taiwan, and Turkey: Investigation Nos. 731-TA 1675-1678 (Final).

By order of the Commission.
Issued: May 12, 2025.
Lisa Barton,
Secretary to the Commission.

[FR Doc. 2025-08661 Filed 5-14-25; 8:45 am]

BILLING CODE 7020-02-P